DEPARTMENT OF AGRICULTURE

Forest Service

Revised Land and Resource Management Plan for the Green Mountain National Forest (Addison, Bennington, Rutland, Washington, Windham, and Windsor Counties, Vermont)

AGENCY: Forest Service, USDA.

ACTION: Notice of Intent Supplement.

SUMMARY: On May 2, 2002 the USDA Forest Service published in the Federal Register, a Notice of Intent (NOI) to prepare an Environmental Impact Statement and to revise the Green Mountain National Forest Land and Resource Management Plan (Forest Plan). A document titled, “Implementing the Green Mountain Land and Resource Management Plan—A Fifteen Year Retrospective” (Retrospective) was referenced in the NOI. This document was not available at the beginning of the 60-day public comment period. To ensure that those who want to reference the Retrospective when commenting on the NOI, the comment period on the NOI is being extended from 60 to 90 days. The comment period on the NOI will now end on July 30, 2002.

Supplement: The Green Mountain National Forest is extending the comment period for the NOI from 60 to 90 days. Written comments on the NOI will now be accepted until July 30, 2002. All other information in the May 2, 2002 NOI remains the same.

Dated: July 12, 2002.
Paul Brewster,
Forest Supervisor.

[FR Doc. 02-15365 Filed 6-18-02; 8:45 am]

BILLING CODE 3410-11-M